DEPARTMENT OF TRANSPORTATION

Surface Transportation Board

[STB Finance Docket No. 34433]

Soo Line Railroad Company—Trackage Rights Exemption—Wisconsin & Southern Railroad Company

Pursuant to a trackage rights agreement between Soo Line Railroad Company, d/b/a Canadian Pacific Railway Company (CPR) and Wisconsin & Southern Railroad Company (WSOR), WSOR has agreed to grant CPR trackage rights over a line of railroad between milepost 132.11 in Watertown, Jefferson County, WI, and milepost 164.61 in Madison, Dane County, WI, a distance of 32.5 miles.¹

¹ A redacted unexecuted version of the trackage rights agreement between CPR and WSOR was filed with the notice of exemption. The full version of the agreement, as required by 49 CFR 1180.6(a)(7)(ii), was concurrently filed under seal along with a motion for protective order. CPR states that when a fully executed copy of the agreement is available, it will be filed with the Board. A protective order is being served on November 18, 2003.

The transaction was scheduled to be consummated on or after November 10, 2003.

The purpose of the trackage rights is to allow CPR to continue to operate over the line that is being sold to WSOR.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 34433, must be filed with the Surface Transportation Board, 1925 K Street, NW, Washington, DC 20423-0001. In addition, a copy of each pleading must be served on Diane P. Gerth, Leonard, Street and Deinard Professional Association, 150 South Fifth St., Minneapolis, MN 55402.

Board decisions and notices are available on our Web site at “www.stb.dot.gov.”

Decided: November 17, 2003.
By the Board, David M. Konschnik, Director, Office of Proceedings.
Vernon A. Williams,
Secretary.

[FR Doc. 03-29141 Filed 11-20-03; 8:45 am]

BILLING CODE 4915-00-P